GENERAL SERVICES ADMINISTRATION

[Notice-MY-2023-04; Docket No. 2023-0002; Sequence No. 46]

Senior Policy Operating Group's Procurement and Supply Chains Committee Outreach Session

AGENCY: Office of Government-wide Policy, General Services Administration (GSA).

ACTION: Notice of public meeting.

SUMMARY: GSA is providing notice of a public meeting on behalf of the Chief Acquisition Officers Council (CAOC) and the Senior Policy Operating Group's (SPOG) Procurement and Supply Chains Committee to build understanding and awareness about the anti-human trafficking requirements of the Federal Acquisition Regulation (FAR), share information about U.S. government tools and reporting to assist with compliance, and to discuss actions the Federal Government can take to achieve more effective implementation.

DATES: The SPOG Procurement and Supply Chains Committee will hold a web-based open public meeting on Thursday, January 18th, from 11 a.m. to 1 p.m. Eastern Standard Time (EST).

ADDRESSES: The meeting will be accessible via webcast. Registrants will receive the webcast information before the meeting.

FOR FURTHER INFORMATION CONTACT: Shenaye Holmes, Senior Advisor, General Services Administration, Office of Government-wide Policy, 202-213-2922 or email: shenaye.holmes@gsa.gov; or Harry D'Agostino, harry.dagostino@gsa.gov.

SUPPLEMENTARY INFORMATION:

Background

The National Action Plan to Combat Human Trafficking (available at: https://www.whitehouse.gov/wp-content/uploads/2021/12/National-Action-Plan-to-Combat-Human-Trafficking.pdf) Priority Action 1.3.1 calls on the Chief Acquisition Officers to support a public outreach session hosted by the SPOG Procurement and Supply Chains Committee (the Committee) for contracting companies, non-governmental organizations, international partners, associates of State, local, Tribal, and Territorial officials, and any interested parties to build understanding and awareness about the anti-trafficking requirements of the FAR. Policy officials from the Committee will review recent efforts to prevent and address human trafficking in Federal supply chains and invite members of the public to provide input on ways to strengthen implementation of anti-trafficking requirements in Federal acquisition.

The first public meeting was held in January 2023 (88 FR 863). This will be the second public meeting and topics will include, but not be limited to the following: (1) experience with OMB Memorandum M-20-01, Anti-Trafficking Risk Management Best Practices & Mitigation Considerations, (2) trainings and resources for government and contractors, (3) using internal government findings, such as the Department of Labor's List of Products Produced by Forced or Indentured Child Labor, to assist in analyzing supply chains, and (4) developments in combating trafficking in global supply chains that would be helpful to apply to Federal procurement.

Additionally, we are particularly interested in hearing from stakeholders regarding the following anti-trafficking related efforts:

1. Promising practices in creating a supply chain due diligence program, including implementing a compliance plan to prevent and address the prohibited activities listed in FAR 52.222-50;

2. Successful awareness and training programs that inform employees about the FAR's prohibitions against trafficking-related activities;

3. Increasing the ability of workers to report violations and suspected violations; and

4. Examples of effective remediation.

Meeting Registration

The meeting is open to the public. The meeting will be accessible by webcast. Registration is required for web viewing. To register, go to: https://gsa.zoomgov.com/webinar/register/WN_2UYgv6xbQDGNh2ixMEIQaA#/registration.

Attendees must register by 5:00 p.m., on January 11, 2024. All registrants will be asked to provide their name, affiliation, and email address. After registration, individuals will receive webcast access information via email. Additionally, using the registration page, registrants will be able to submit questions for the Committee or whether they wish to present recommendations or lessons learned during the meeting.

Special Accommodations

For information on services for individuals with disabilities, or to request accommodation of a disability, please contact the Designated Federal Officer at least 10 business days prior to the meeting to give GSA as much time as possible to process the request. Closed captioning and live ASL interpreter services will be available.

Shenayé V. Holmes,
Senior Advisor, Federal Privacy Council, Made in America Council, Chief Acquisition Officers Council.

[FR Doc. 2023-27781 Filed 12-18-23; 8:45 am]

BILLING CODE 6820-69-P